DEPARTMENT OF ENERGY

Federal Energy Regulatory Commission

[Docket No. RP06-614-000]

Transwestern Pipeline Company, LLC; Notice of Technical Conference

November 8, 2006.

Take notice that the Commission will convene a technical conference on Thursday November 30, 2006, at 10 a.m. (EST), in a room to be designated at the offices of the Federal Energy Regulatory Commission, 888 First Street, NE., Washington DC 20426.

The technical conference will deal with issues related to Transwestern Pipeline Company, LLC's proposal to modify certain tariff sheets in the General Terms and Conditions of its tariff and rate schedules, as discussed in the October 31, 2006 order, Transwestern Pipeline Company, LLC, 117 FERC ¶ 61,134.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Russell Mamone at (202) 502-8744 or e-mail russell.mamone@ferc.gov.

Magalie R. Salas,
Secretary.

[FR Doc. E6-19332 Filed 11-15-06; 8:45 am]

BILLING CODE 6717-01-P